DEPARTMENT OF LABOR

Employment and Training Administration

[TA-W-50,626]

Crowe Logging, Inc., Encampment, WY; Notice of Termination of Investigation

Pursuant to section 221 of the Trade Act of 1974, as amended, an investigation was initiated on January 22, 2003, in response to a worker petition filed by a company official on behalf of workers at Crowe Logging, Inc., Encampment, Wyoming.

The petitioner has requested that the petition be withdrawn. Consequently, the investigation has been terminated.

Signed at Washington, DC this 24th day of February 2003.
Richard Church,
Certifying Officer, Division of Trade Adjustment Assistance.

[FR Doc. 03-5417 Filed 3-6-03; 8:45 am]

BILLING CODE 4510-30-P